DEPARTMENT OF AGRICULTURE

Animal and Plant Health Inspection Service

[Docket No. APHIS-2015-0023]

Privacy Act of 1974; System of Records

AGENCY: Animal and Plant Health Inspection Service, USDA.

ACTION: Notice of a new system of records.

SUMMARY: Pursuant to the provisions of the Privacy Act of 1974 (5 U.S.C. 552a), and Office of Management and Budget Circular No. A-108, notice is given that the Animal and Plant Health Inspection Service (APHIS) of the U.S. Department of Agriculture (USDA) is proposing to add a new system of records, entitled USDA/APHIS-23, Integrated Plant Health Information System (IPHIS). This system maintains records of activities conducted pursuant to APHIS' mission and responsibilities authorized by the Plant Protection Act (7 U.S.C. 7701 et seq.); the Honey Bee Act (7 U.S.C. 281 et seq.); and the Food Conservation and Energy Act 2008 (7 U.S.C. 8791 et seq.).

DATES: This notice is effective upon publication, subject to a 30-day notice and comment period in which to comment on the routine uses described below. Comments, if any, must be submitted by June 21, 2021.

ADDRESSES: You may submit comments by either of the following methods:

• Federal eRulemaking Portal: Go to http://www.regulations.gov. Enter APHIS-2015-0023 in the Search filed. Select the Documents tab, then select the comment button in the list of documents.

• Postal Mail/Commercial Delivery: Send your comment to Docket No. APHIS-2015-0023, Regulatory Analysis and Development, PPD, APHIS, Station 3A-03.8, 4700 River Road Unit 118, Riverdale, MD 20737-1238.

Supporting documents and any comments we receive on this docket may be viewed at http://www.regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For general questions, please contact Mr. Steven King, Information Technology Project Manager, Project Management Office, PPQ, APHIS, 4700 River Road, Riverdale, MD 20737; (301) 851-2118; Steven.A.King@usda.gov. For Privacy Act questions concerning this system of records notice, please contact Ms. Tonya Woods, Director, Freedom of Information and Privacy Act Staff, 4700 River Road Unit 50, Riverdale, MD 20737; (301) 851-4076; Tonya.G.Woods@usda.gov. For USDA Privacy Act questions, please contact the USDA Chief Privacy Officer, Information Security Center, Office of Chief Information Officer, USDA, Jamie L. Whitten Building, 1400 Independence Ave. SW, Washington, DC 20250; email: USDAPrivacy@usda.gov.

SUPPLEMENTARY INFORMATION: The U.S. Department of Agriculture's (USDA's), Animal and Plant Health Inspection Service (APHIS) is adding a new system of records, the Integrated Plant Health Information System (IPHIS), USDA/APHIS-23.

IPHIS is an information management system that APHIS uses to access, enter, and view data on plant health events that occur nationwide. IPHIS provides survey data, including locations, target pests, survey sample identification, and diagnostic test results; survey supply orders and inventory management; domestic emergency action notifications; and compliance agreements and inspection records to APHIS plant health personnel as well as cooperators outside the agency. Among other things, this information helps APHIS to prepare for plant pest and disease outbreaks and to monitor such outbreaks and devise effective responses to them; facilitate the export and interstate movement of agricultural products, including regulated articles; and communicate survey results to APHIS and APHIS contractors on a timely basis.

APHIS will share information from the system in accordance with the requirements of the Privacy Act. A full list of routine uses is included in the routine uses section of the document published with this notice.

A report on the new system of records, required by 5 U.S.C. 552a(r), as implemented by Office of Management and Budget Circular A-108, was sent to the Chairman, Committee on Homeland Security and Governmental Affairs, United States Senate; the Chairwoman, Committee on Oversight and Reform, House of Representatives; and the Administrator, Office of Information and Regulatory Affairs, Office of Management and Budget.

Done in Washington, DC, this 17th day of May 2021.
Mark Davidson,
Administrator, Animal and Plant Health Inspection Service.

SYSTEM NAME AND NUMBER:

USDA/APHIS-23, Integrated Plant Health Information System (IPHIS).

SECURITY CLASSIFICATION:

Sensitive but unclassified.

SYSTEM LOCATION:

The Animal and Plant Health Inspection Service (APHIS) Plant Protection and Quarantine (PPQ) program maintains the system of records for IPHIS. The IPHIS master data system resides within the Microsoft Azure Government data centers located in Boydton, VA, as the primary site, and in San Antonio, TX, as a secondary site for redundant or any disaster recovery plans. The Microsoft Azure environment is managed by Marketing and Regulatory Program Information Technology. Azure Backup Center provides native integrations to existing Azure services that enable management of system and data backup. The Backup Center uses the Azure Policy experience to help govern backups. It also leverages Azure Workbooks and Azure Monitor Logs to help view detailed reports on backups to insure viability and consistency. Azure Backup stores backed-up data in vaults—Recovery Services vaults and Backup vaults. A vault is an online-storage entity in Azure that's used to hold data, such as backup copies, recovery points, and backup policies. Paper records generated from IPHIS are secured within the work units.

SYSTEM MANAGER:

Information Technology Project Manager, Project Management Office, PPQ, APHIS, 4700 River Road, Riverdale, MD 20737.

AUTHORITY FOR MAINTENANCE OF THE SYSTEM:

The Plant Protection Act (7 U.S.C. 7701 et seq.); the Honey Bee Act (7 U.S.C. 281 et seq.); and the Food Conservation and Energy Act 2008 (7 U.S.C. 8791 et seq.).

PURPOSES OF THE SYSTEM:

IPHIS is a web-based data management system for use by APHIS plant health personnel as well as cooperators outside the agency (e.g., diagnostic laboratories, State, Tribal, and local governments, and academia). PPQ uses IPHIS to access, enter, and view data for plant health events nationwide. The following data are contained and provided to IPHIS users: Survey data, including the name of the plant pest, noxious weed, or biological control organism, source of data, specific crop/host, location, and environment; survey method; survey location and GPS coordinates; pest absence/presence; diagnostic results, including sample identification and confirmation method; survey supply orders; inventory management; emergency action notifications; tracking and control documentation; and compliance agreements and inspection records. The information, as listed under categories of records, is collected, used, disseminated, or maintained to support the agency's mission to protect and promote food, agriculture, natural resources, and related issues.

The principle use of the information is for preparation, monitoring, and response to plant health-related issues. Specifically, the information will be used as an information tool to provide pest status and location and help cooperators from State, Tribal, and local governments, plant health officials, cooperators from academic institutions, and diagnostic laboratories to determine what effective action must be taken when a plant pest or noxious weed is found. Additional uses of the information will be to facilitate the export and interstate movement of agricultural products; to issue compliance agreements for the handling and interstate movement of regulated articles; to facilitate management of pests and beneficial organisms; to communicate the activities and results of survey detection to users on a timely basis; to monitor the distribution of pests; to respond to a plant health pest outbreak; to forecast survey supply needs; and to validate pest risk models. Certain IPHIS survey data that do not include personally identifiable information are exported to the National Agricultural Pest Information System (NAPIS). Purdue University owns and maintains NAPIS, which supports the web-based public interface pest tracker site for the Cooperative Agricultural Pest Survey Program.

CATEGORIES OF INDIVIDUALS COVERED BY THE SYSTEM:

Categories of individuals covered by this system include individuals who enter into compliance agreements with APHIS or who are identified in emergency action notifications, including members of the public such as property owners, residents, and farmers. The system also contains information on APHIS employees and contractors or other entities working on behalf of APHIS.

CATEGORIES OF RECORDS IN THE SYSTEM:

The system collects information related to the point of contact for particular locations where surveys, seizures, and traces occur. The compliance agreement fields in IPHIS include the names, mailing addresses, and email addresses of individuals (property owners/residents) and business entities that handle regulated articles and agree to comply with the movement restrictions and domestic quarantine regulations. The emergency action notification fields in IPHIS contain the names, addresses, email addresses, and phone and fax numbers of owners or agents of regulated articles or regulated areas when agricultural officials have prescribed remedial measures due to agricultural pests. The system also includes information, such as names, addresses, email addresses, and phone and fax numbers, about APHIS employees and contractors or others working on behalf of APHIS.

The IPHIS system will also collect agricultural survey data that includes additional categories of records such as survey location and GPS coordinates.

RECORD SOURCE CATEGORIES:

Information in this system comes primarily from the members of the public; regulated individuals and entities; APHIS employees; other Federal, State, Tribal, and local government agencies; diagnostic laboratories; and university cooperators.

ROUTINE USES OF RECORDS MAINTAINED IN THE SYSTEM, INCLUDING CATEGORIES OF USERS AND THE PURPOSES OF SUCH USES:

In addition to those disclosures generally permitted under 5 U.S.C. 552a(b) of the Privacy Act, records maintained in the system may be disclosed outside the U.S. Department of Agriculture (USDA), as follows:

(1) To cooperators from other Federal departments and their agencies; State, local, Tribal, and Territorial governments; plant health officials; cooperators from academic institutions; and diagnostic laboratories performing functions or working to respond to events declared to be emergencies of national significance determined to impact the U.S. critical infrastructure or other related emergency response functions performed for USDA, when necessary to accomplish an agency function related to this system of records;

(2) When a record on its face, or in conjunction with other records indicates a violation or potential violation of law, whether civil, criminal, or regulatory in nature, and whether arising by general statute or particular program, statute, or by regulation, rule, or order issued pursuant thereto, APHIS may disclose the record to the appropriate agency, whether Federal, foreign, State, Tribal, local, or other public authority responsible for enforcing, investigating, or prosecuting such violation or charged with enforcing or implementing the statute, rule, regulation, or order issued pursuant thereto, if the information disclosed is relevant to any enforcement, regulatory, investigative, or prosecutive responsibility of the receiving entity;

(3) To the Department of Justice when: (a) USDA or any component thereof; or (b) any employee of USDA in his or her official capacity, or any employee of the agency in his or her individual capacity where the Department of Justice has agreed to represent the employee; or (c) the United States Government, is a party to litigation or has an interest in such litigation, and USDA determines that the records are relevant and necessary to the litigation and the use of such records by the Department of Justice is for a purpose that is compatible with the purpose for which USDA collected the records;

(4) In an appropriate proceeding before a court, grand jury, or administrative or adjudicative body or official, when USDA or other Agency representing USDA determines that the records are relevant and necessary to the proceeding; or in an appropriate proceeding before an administrative or adjudicative body when the adjudicator determines the records to be relevant to the proceeding;

(5) To appropriate agencies, entities, and persons when: (a) USDA suspects or has confirmed that there has been a breach of the system of records; (b) USDA has determined that as a result of the suspected or confirmed breach there is a risk of harm to individuals, USDA (including its information systems, programs, and operations), the Federal Government, or national security; and (c) the disclosure made to such agencies, entities, and persons is reasonably necessary to assist in connection with USDA's efforts to respond to the suspected or confirmed compromise and prevent, minimize, or remedy such harm;

(6) To another Federal agency or Federal entity, when information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach;

(7) To Congressional office staff in response to an inquiry made at the written request of the individual to whom the record pertains;

(8) To contractors and their agents, grantees, experts, consultants, and others performing or working on a contract, service, grant, cooperative agreement, or other assignment for USDA, when necessary to accomplish an agency function related to this system of records; and

(9) To the National Archives and Records Administration (NARA) or to the General Services Administration for records management activities conducted under 44 U.S.C. 2904 and 2906.

DISCLOSURE TO CONSUMER REPORTING AGENCIES:

N/A.

POLICIES AND PRACTICES FOR STORAGE OF RECORDS:

Paper-based records are stored and maintained in USDA/APHIS offices in locked file cabinets that require presentation of employee identification for building admittance and access. Electronic records are maintained in an electronic database on a server in a secure data center or on the APHIS web server and website that is maintained by APHIS' Information Technology Division. Information Technology personnel maintain backup media.

POLICIES AND PRACTICES FOR RETRIEVAL OF RECORDS:

Records are retrieved by any of the data entry fields included in categories of records such as the name of the property owner, resident, and/or farmer, address, phone, fax, and/or email address, etc. System users can also retrieve records by data entry fields associated with agricultural surveys or investigations including location, site, activity, or diagnostic sample.

POLICIES AND PRACTICES FOR RETENTION AND DISPOSAL OF RECORDS:

APHIS is working closely with NARA to update retention schedules. Records will be retained indefinitely pending NARA's approval of a records retention schedule.

ADMINISTRATIVE, TECHNICAL, AND PHYSICAL SAFEGUARDS:

Physical security measures are in place to prevent unauthorized persons from accessing IPHIS. Electronic records are stored on secure file servers. IPHIS includes physical access controls, firewalls, intrusion detection systems, and system auditing to prevent unauthorized access. To access IPHIS, users are required to complete the USDA eAuthentication registration process and are validated through role-based authentication and authorization. Cooperators have signed a General Memorandum of Understanding in which they have agreed to safeguard the confidentiality of such data and prohibit unauthorized access to the data provided by APHIS. They also agree not to release any of the data provided by APHIS, and to refer any and all requests for the data provided to APHIS Legislative and Public Affairs, Freedom of Information and Privacy Act Office.

Paper files are kept in a safeguarded environment with controlled access only by authorized personnel. All IPHIS users are also required to complete appropriate training to learn requirements for safeguarding records maintained under the Privacy Act. Azure safeguards records and ensures that privacy requirements are met in accordance with Federal and cybersecurity mandates. Azure provides continuous storage management, security administration, regular dataset backups, and contingency planning/disaster recovery. Azure employs automated mechanisms to restrict access to media storage areas. This is done by requiring a successful multi-factor authentication to the APHIS Enterprise Infrastructure (AEI) on an authorized computing device which is a member of the AEI, and rights control based on administrator level special accounts. Azure also employs automated mechanisms to audit access attempts and access granted into these areas. This is done through the use of reports generated from the Azure Monitor Logs.

RECORD ACCESS PROCEDURES:

All requests for access to records must be in writing and should be submitted to the APHIS Privacy Act Officer, 4700 River Road Unit 50, Riverdale, MD 20737; or by facsimile (301) 734-5941; or by email APHISPrivacy@usda.gov. In accordance with 7 CFR 1.112 (Procedures for requests pertaining to individual records in a record system), the request must include the full name of the individual making the request; the name of the system of records; and preference of inspection, in person or by mail. In accordance with 7 CFR 1.113, prior to inspection of the records, the requester shall present sufficient identification (e.g., driver's license, employee identification card, social security card, credit cards) to establish that the requester is the individual to whom the records pertain. In addition, if an individual submitting a request for access wishes to be supplied with copies of the records by mail, the requester must include with his or her request sufficient data for the agency to verify the requester's identity.

CONTESTING RECORD PROCEDURES:

Individuals seeking to contest or amend records maintained in this system of records must direct their request to the address indicated in the “RECORD ACCESS PROCEDURES” paragraph, above and must follow the procedures set forth in 7 CFR 1.116 (Request for correction or amendment to record). All requests must state clearly and concisely what record is being contested, the reasons for contesting it, and the proposed amendment to the record.

NOTIFICATION PROCEDURES:

Individuals may be notified if a record in this system of records pertains to them when the individuals request information utilizing the same procedures as those identified in the “RECORD ACCESS PROCEDURES” paragraph above.

EXEMPTIONS PROMULGATED FOR THE SYSTEM:

None.

HISTORY:

None.

[FR Doc. 2021-10707 Filed 5-20-21; 8:45 am]

BILLING CODE 3410-34-P